DEPARTMENT OF HEALTH AND HUMAN SERVICES

Administration for Children and Families

Proposed Information Collection Activity; National Human Trafficking Hotline (NHTH) Performance Indicators

AGENCY: Office on Trafficking in Persons, Administration for Children and Families, Health and Human Services (HHS).

ACTION: Request for public comment.

SUMMARY: The Administration for Children and Families (ACF) is requesting approval for a new information collection: National Human Trafficking Hotline (NHTH) Performance Indicators.

DATES: Comments due within 60 days of publication. In compliance with the requirements of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Section 107(b)(1)(B)(ii) of the Trafficking Victims Protection Act of 2000, as amended at 22 U.S.C. 7105(b)(1)(B)(ii), authorizes the Secretary of Health and Human Services (HHS) to make a grant for a national communication system—the NHTH—to assist victims of severe forms of trafficking in persons in seeking help, receiving referrals, and reporting potential trafficking cases.

HHS made an award in the form of a Cooperative Agreement to a single, competitively selected grantee to maintain and support operation of the NHTH throughout the United States and U.S. territories. The NHTH is a toll-free hotline that operates 24 hours a day, every day of the year.

The Cooperative Agreement delineates the roles and responsibilities for the administration of the grant program, which include:

1. Operating the NHTH with experienced and trained anti-trafficking advocates;

2. Operating the NHTH website and responding to online signals;

3. Promoting NHTH services to increase the identification and protection of victims of severe forms of human trafficking;

4. Providing timely information and service referrals to human trafficking victims using a trauma-informed, person-centered, culturally responsive, and linguistically appropriate approach;

5. Notifying law enforcement agencies of potential cases of human trafficking as well as instances when a trafficking victim is in imminent danger; and

6. Documenting emerging trafficking schemes to assist in the detection and investigation of trafficking cases.

The NHTH grantee collects information about signalers (individuals who contact the hotline) and from signalers regarding potential victims of a severe form of trafficking in persons and human trafficking cases. Given the unique relationship the NHTH has to the public, OTIP is seeking clearance to collect information about and from these signalers that will be summarized and reported to OTIP by the NHTH grantee in the aggregate. The NHTH Performance Indicators information collection will provide data for OTIP to assess the extent to which the grantee meets required program activities to:

• Ensure potential victims of trafficking remain able to access assistance by constantly monitoring and mitigating factors impacting NHTH operations;

• Assist the grantee to assess and improve their project over the course of the project period;

• Disseminate insights related to human trafficking cases and trends to inform anti-trafficking strategies and policies; and

• Provide information to Congress, other federal agencies, stakeholders, the public, and other countries on the aggregate outputs and outcomes of the NHTH operations.

Respondents: Potential victims, representatives of governmental entities, law enforcement, first responders, members of the community, representatives of nongovernmental entities providing social, legal, or protective services to individuals in the United States who may have been subjected to severe forms of trafficking in persons utilize the NHTH as signalers.

Annual Burden Estimates
Instrument | Total number of respondents (signalers) | Total number of responses per respondent | Average burden hours per response | Total burden hours | Annual burden hours
National Human Trafficking Hotline (NHTH) Performance Indicators | 585,300 | 1 | 0.43333333 | 253,630 | 84,543

Estimated Total Annual Burden Hours: 84,543.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7105.

Mary B. Jones,
ACF/OPRE Certifying Officer.

[FR Doc. 2021-15526 Filed 7-20-21; 8:45 am]

BILLING CODE 4184-47-P